SMALL BUSINESS ADMINISTRATION

[Declaration of Disaster #P040]

State of Arkansas

As a result of the President's major disaster declaration for Public Assistance on June 30, 2004, the U.S. Small Business Administration is activating its disaster loan program only for private non-profit organizations that provide essential services of a governmental nature. I find that Bradley, Calhoun, Clark, Columbia, Hempstead, Howard, Lafayette, Little River, Nevada, Ouachita, Pike, and Sevier Counties in the State of Arkansas constitute a disaster area due to damages caused by severe storms and flooding occurring on May 30, 2004, and continuing. Applications for loans for physical damage as a result of this disaster may be filed until the close of business on August 30, 2004, at the address listed below or other locally announced locations: U.S. Small Business Administration, Disaster Area 3 Office, 14925 Kingsport Road, Fort Worth, TX 76155-2243.

The interest rates are:

| Percent
For Physical Damage:
Non-Profit Organizations Without Credit Available Elsewhere | 2.750
Non-Profit Organizations With Credit Available Elsewhere | 4.875

The number assigned to this disaster for physical damage is P04006.

(Catalog of Federal Domestic Assistance Program Nos. 59008)

Dated: July 2, 2004.
Cheri L. Cannon,
Acting Associate Administrator for Disaster Assistance.

[FR Doc. 04-15632 Filed 7-8-04; 8:45 am]

BILLING CODE 8025-01-P